DEPARTMENT OF THE INTERIOR

Bureau of Land Management

[NV-923-1310-FI; NVN-61536; 6-08808]

Notice of Proposed Reinstatement of Terminated Oil and Gas Lease; Nevada

AGENCY: Bureau of Land Management, Interior.

ACTION: Notice.

Pursuant to the provisions of 30 U.S.C. 188(d) and (e), and 43 CFR 3108.2-3(a) and (b)(1), a petition for reinstatement of oil and gas lease NVN-61536 for lands in Nye County, Nevada, was timely filed and was accompanied by all the required rentals accruing from April 1, 2005, the date of termination.

No valid lease has been issued affecting the lands. The lessee, Deerfield Production Corporation, has agreed to new lease terms for rentals and royalties at rates of $10.00 per acre or fraction thereof and 16⅔ percent, respectively. Deerfield Production Corporation has paid the required $500 administrative fee and has reimbursed the Bureau of Land Management for the cost of this Federal Register notice. Deerfield Production Corporation has met all the requirements for reinstatement of the lease as set out in Sections 31(d) and (e) of the Mineral Leasing Act of 1920 (30 U.S.C. 188), and the Bureau of Land Management is proposing to reinstate the lease effective April 1, 2005, subject to the original terms and conditions of the lease and the increased rental and royalty rates cited above.

FOR FURTHER INFORMATION CONTACT: Elaine Lewis, BLM Nevada State Office, 775-861-6537.

Del Fortner,
Deputy State Director, Minerals Management.

[FR Doc. E5-6767 Filed 12-1-05; 8:45 am]

BILLING CODE 4310-P